DEPARTMENT OF HEALTH AND HUMAN SERVICES

Centers for Disease Control and Prevention

Board of Scientific Counselors, Coordinating Center for Infectious Diseases (CCID)

In accordance with section 10(a)(2) of the Federal Advisory Committee Act (Pub. L. 92-463), the Centers for Disease Control and Prevention (CDC), announces the following meeting of the aforementioned committee:

Times and Dates:

9 a.m.-5 p.m., December 4, 2008.

8:30 a.m.-3:30 p.m., December 5, 2008.

Place: CDC, Global Conference Center, Building 19, 1600 Clifton Road, NE., Atlanta, Georgia 30333.

December 4, 2008—Building 19 (Work Groups meet).

December 5, 2008—Auditorium B3 (Full Board meets).

Status: Open to the public, limited only by the space available.

Purpose: The Board of Scientific Counselors, CCID, provides advice and guidance to the Director, CDC, and Director, CCID, in the following areas: program goals and objectives; strategies; program organization and resources for infectious disease prevention and control; and program priorities.

Matters to be Discussed: Agenda items will include:

1. Breakout Group Discussions:Vaccine Trust and Vaccine in Healthcare Workers (National Center for Preparedness, Detection, and Control of Infectious Diseases and National Center for Immunization and Respiratory Diseases). Discussion will be how reports, statements and recommendations of our established advisory committees (Advisory Council for the Elimination of Tuberculosis, CDC/HRSA Advisory Committee) can be presented to the Work Group and full committee most efficiently and effectively (National Center for HIV/AIDS, Viral Hepatitis, STD, and TB Prevention, (NCHHSTP)). Program Collaboration and Service Integration (NCHHSTP) International Activities (National Center for Zoonotic, Vector-Borne, and Enteric Diseases, (NCZVED)). Peer Reviews and Planning and New Technology (NCZVED).

2. Antimicrobial Resistance (Full Board).

3. Budget and CCID/Office of the Director Updates (Full Board).

Other agenda items include announcements, introductions, and follow-up on actions recommended by the board, directions, goals, and recommendations.

Agenda items are subject to change as priorities dictate.

Written comments are welcome and should be received by the contact person listed below prior to the opening of the meeting.

Contact Person for More Information: Harriette Lynch, Office of the Director, CCID, CDC, Mailstop E-77, 1600 Clifton Road, NE., Atlanta, Georgia 30333, Telephone: (404)498-2726, e-mail: hlynch@cdc.gov.

The Director, Management Analysis and Services office has been delegated the authority to sign Federal Register notices pertaining to announcements of meetings and other committee management activities, for both the CDC and the Agency for Toxic Substances and Disease Registry.

Dated: November 4, 2008.
Elaine L. Baker,
Director, Management Analysis and Services Office, Centers for Disease Control and Prevention.

[FR Doc. E8-26795 Filed 11-10-08; 8:45 am]

BILLING CODE 4163-18-P